DEPARTMENT OF COMMERCE

Foreign-Trade Zones Board

[Order No. 1477]

Expansion of Foreign-Trade Zone 9, Honolulu, Hawaii

Pursuant to its authority under the Foreign-Trade Zones Act of June 18, 1934, as amended (19 U.S.C. 81a-81u), the Foreign-Trade Zones Board (the Board) adopts the following Order:

WHEREAS, the State of Hawaii, grantee of Foreign-Trade Zone 9, submitted an application to the Board for authority to expand FTZ 9 to include a site in Kailua-Kona, Hawaii, adjacent to the Kona Customs and Border Protection port of entry (FTZ Docket 5-2006, filed 2/15/2006);

WHEREAS, notice inviting public comment has been given in the Federal Register (71 FR 9518, 2/24/2006); and,

WHEREAS, the Board adopts the findings and recommendations of the examiner's report, and finds that the requirements of the FTZ Act and Board's regulations are satisfied, and that approval of the application is in the public interest;

NOW, THEREFORE, the Board hereby orders:

The application to expand FTZ 9 is approved, subject to the FTZ Act and the Board's regulations, including Section 400.28, and further subject to the Board's standard 2,000-acre activation limit.

Signed at Washington, DC, this 6th day of September 2006.

David M. Spooner,
Assistant Secretary of Commerce for Import Administration, Alternate Chairman Foreign-Trade Zones Board.
Attest:
Andrew McGilvray,
Acting Executive Secretary.

[FR Doc. E6-15477 Filed 9-15-06; 8:45 am]

BILLING CODE 3510-DS-S